DEPARTMENT OF COMMERCE

National Oceanic and Atmospheric Administration

50 CFR Part 648

[Docket No. 101013504-0504-02]

RIN 0648-XY27

Magnuson-Stevens Fishery Conservation and Management Act Provisions; Fisheries of the Northeastern United States; Atlantic Surfclam and Ocean Quahog Fishery; Proposed 2011-2013 Fishing Quotas for Atlantic Surfclam and Ocean Quahog

AGENCY: National Marine Fisheries Service (NMFS), National Oceanic and Atmospheric Administration (NOAA), Commerce.

ACTION: Proposed rule; request for comments.

SUMMARY: NMFS proposes quotas for the Atlantic surfclam and ocean quahog fisheries for 2011, 2012, and 2013. Regulations governing these fisheries require NMFS to publish the proposed quota specifications for the 2011-2013 fishing years and seek public comment on such proposed measures. The intent of this action is to propose allowable harvest levels of Atlantic surfclams and ocean quahogs from the Exclusive Economic Zone to prevent overfishing and to allow harvesting of optimum yield (OY).

DATES: Comments must be received no later than 5 p.m., eastern standard time, on November 24, 2010.

ADDRESSES: Copies of supporting documents, including the Environmental Assessment, Regulatory Impact Review (RIR), and Initial Regulatory Flexibility Analysis (IRFA) are available from Christopher Moore, Executive Director, Mid-Atlantic Fishery Management Council, Suite 201, 800 N. State St., Dover, DE 19901. A copy of the EA/RIR/IRFA is accessible via the Internet at http://www.nero.noaa.gov/nero/regs/com.html.

You may submit comments, identified by RIN 0648-XY27, by any one of the following methods:

Mail: Patricia A. Kurkul, Regional Administrator, Northeast Region, NMFS, 55 Great Republic Drive, Gloucester, MA 01930. Mark on the outside of the envelope, “Comments on 2011-2013 SC/OQ Proposed Specifications.”

Fax: (978) 281-9135.

Electronic Submissions: Submit all electronic public comments via the Federal eRulemaking Portal, http://www.regulations.gov.

Instructions: All comments received are a part of the public record and generally will be posted to http://www.regulations.gov without change. All Personal Identifying Information (for example, name, address, etc.) voluntarily submitted by the commenter may be publicly accessible. Do not submit Confidential Business Information or otherwise sensitive or protected information.

NMFS will accept anonymous comments. Attachments to electronic comments will be accepted in Microsoft Word, Excel, WordPerfect, or Adobe PDF file formats only.

FOR FURTHER INFORMATION CONTACT: Anna Macan, Fishery Management Specialist, 978-281-9165.

SUPPLEMENTARY INFORMATION: The fishery management plan (FMP) for Atlantic surfclams and ocean quahogs requires that NMFS, in consultation with the Mid-Atlantic Fishery Management Council (Council), specify quotas for surfclam and ocean quahog for a 3-year period, with an annual review, from a range that represents the OY for each fishery. It is the policy of the Council that the levels selected allow sustainable fishing to continue at that level for at least 10 years for surfclams, and 30 years for ocean quahogs. In addition to this constraint, the Council policy also considers the economic impacts of the quotas. Regulations implementing Amendment 10 to the FMP (63 FR 27481, May 19, 1998) added Maine ocean quahogs (locally known as Maine mahogany quahogs) to the management unit, and provided for a small artisanal fishery for ocean quahogs in the waters north of 43°50′ N. lat., with an annual quota within a range of 17,000 to 100,000 Maine bu (5,991 to 35,240 hL). As specified in Amendment 10, the Maine mahogany ocean quahog quota is allocated separately from the quota specified for the ocean quahog fishery. Regulations implementing Amendment 13 to the FMP (68 FR 69970, December 16, 2003) established the ability to set multi-year quotas. An evaluation, in the form of an annual quota recommendation, is conducted by the Council every year to determine if the multi-year quota specifications remains appropriate. The fishing quotas must be in compliance with overfishing definitions for each species. In recommending these quotas, the Council considered the most recent stock assessments, data reported by harvesters and processors, and other relevant information concerning exploitable biomass and spawning biomass, fishing mortality rates, stock recruitment, projected fishing effort and catches, and areas closed to fishing.

In June 2010, the Council voted to recommend maintaining the 2010 quota levels of 5.333 million bu (284 million L) for the ocean quahog fishery, 3.400 million bu (181 million L) for the Atlantic surfclam fishery, and 100,000 Maine bu (35,240 hL) for the Maine ocean quahog fishery for 2011-2013. The proposed quotas for the 2011-2013 Atlantic surfclam and ocean quahog fishery are shown in the table below. The Atlantic surfclam and ocean quahog quotas are specified in “industry” bu of 53.24 L per bu, while the Maine ocean quahog quota is specified in “Maine” bu of 35.24 L per bu. Because Maine ocean quahogs are the same species as ocean quahogs, both fisheries are assessed under the same ocean quahog overfishing definition. When the two quota amounts (ocean quahog and Maine ocean quahog) are added, the total allowable harvest is still lower than the level that would result in overfishing for the entire stock.

Proposed 2011-2013 Atlantic Surfclam and Ocean Quahog¹ Quotas
| 2011: bu | 2011: hL | 2012: bu | 2012: hL | 2013: bu | 2013: hL
Surfclams ² | 3.400 | 1.810 | 3.400 | 1.810 | 3.400 | 1.810
Ocean Quahogs ² | 5.333 | 2.840 | 5.333 | 2.840 | 5.333 | 2.840
Maine Ocean Quahogs ³ | 100,000 | 35,240 | 100,000 | 35,240 | 100,000 | 35,240
¹ Numerical values are in millions except for Maine ocean quahogs.
² 1 bu = 1.88 cubic ft. = 53.24 liters.
³ 1 bu = 1.2445 cubic ft. = 35.24 liters.

Surfclams

The proposed 2011-2013 status quo surfclam quota was developed after reviewing the results of the Northeast Regional Stock Assessment Workshop (SAW) 49 for Atlantic surfclam, released to the public in February 2010. The surfclam quota recommendation is consistent with the SAW 49 finding that the Atlantic surfclam stock is not overfished, nor is overfishing occurring. Estimated fishable stock biomass in 2008 was above the management target, and fishing mortality was below the management threshold. Although recruitment, growth rate, and biomass have continued to decline in the southern region (NJ and Delmarva), relative to historic conditions, these declines are offset by an increase in biomass and recruitment on Georges Bank and off Long Island, NY. Based on this information, the Council recommended, and NMFS is proposing, to maintain the status quo surfclam quota of 3.4 million bu (181 million L) for 2011-2013. This quota represents the maximum allowable quota under the FMP.

Ocean Quahogs

The proposed 2011-2013 quota for ocean quahogs also reflects the status quo quota of 5.333 million bu (284 million L) in 2010. SAW 48, released to the public in August 2009, found that the ocean quahog stock is not overfished, nor is overfishing occurring. Estimated fishable biomass in 2008 was above the management target, and estimated fishing mortality was significantly below the target level. Fishing mortality is not expected to reach the threshold if the proposed quota is harvested each of the 3 years. Ocean quahog is an unproductive stock that is being fished down from its pre-fishery level; however, after several decades of relatively low fishing mortality, the stock is still above the biomass target reference points. In fact, the stock biomass is still at 81 percent of the pre-fishing level. Based on this information, the Council recommended, and NMFS is proposing, to maintain the status quo quota of 5.333 million bu (284 million L) for 2011-2013. This quota level may be above current market demand, but allows for market growth, should conditions change.

The proposed 2011-2013 quota for Maine ocean quahogs is the status quo level of 100,000 Maine bu (35,240 hL). In 2008, the State of Maine completed a stock assessment of the resource within the Maine Mahogany Quahog Zone. This assessment was peer-reviewed as part of SAW 48. The findings of the Maine quahog survey did not change the status of the entire ocean quahog resource. The proposed quota represents the maximum allowable quota under the FMP.

Classification

Pursuant to section 304(b)(1)(A) of the Magnuson-Stevens Fishery Conservation and Management Act (MSA), the NMFS Assistant Administrator has determined that this proposed rule is consistent with the FMP, other provisions of the MSA, and other applicable law, subject to further consideration after public comment. This action is authorized by 50 CFR part 648 and has been determined to be not significant for purposes of Executive Order 12866.

Pursuant to 5 U.S.C. 603, an initial regulatory flexibility analysis (IRFA) has been prepared, which describes the economic impacts that this proposed rule, if adopted, would have on small entities. A summary of the IRFA is included in this section. The complete IRFA and regulatory impact review is available from the Council (see ADDRESSES). A description of the reasons why this action is being considered, as well as the objectives of and legal basis for this proposed rule is found in the preamble of this proposed rule. There are no Federal rules that duplicate, overlap, or conflict with this proposed rule.

This action proposes fishing quotas for Atlantic surfclams and ocean quahogs for 2011-2013. The Council analyzed four quota alternatives for the Atlantic surfclam fishery, five alternatives for the ocean quahog fishery, and four alternatives for the Maine ocean quahog fishery. Each of the alternative sets included the proposed alternative and a “no action” alternative. The three proposed quotas for 2011-2013 are 5.333 million bu (284 million L) for the ocean quahog fishery, 3.400 million bu (181 million L) for the Atlantic surfclam fishery, and 100,000 Maine bu (35,240 hL) for the Maine ocean quahog fishery.

Description and Estimate of the Number of Small Entities to Which This Proposed Rule Would Apply

The Small Business Administration (SBA) defines a small commercial fishing entity as a firm with gross annual receipts not exceeding $4 million. In 2009, a total of 43 vessels reported harvesting surfclams and/or ocean quahogs from Federal waters under the Individual Fishing Quota (IFQ) system. In addition, 19 vessels participated in the limited access Maine ocean quahog fishery, for a total of 62 participants in the 2009 fisheries. Average 2009 gross income from surfclam IFQ trips was $833,333 per vessel, and from ocean quahog IFQ trips was $1,533,333 per vessel. The Maine ocean quahog fishery reported an average value of $105,263 per vessel. Each vessel in this analysis is treated as a single entity for purposes of size determination and impact assessment. All 62 commercial fishing entities fall below the SBA size threshold for small commercial fishing entities.

In addition to the active vessels that participate in the fishery there are 45 ocean quahog quota IFQ allocation holders, 57 surfclam allocation holders, and 40 Federal limited access Maine mahogany quahog permit holders. An allocation holder may choose to fish or lease his or her quota allocation.

Economic Impacts of This Proposed Action

The proposed quotas for 2011-2013 reflect the same quota levels set for 2008-2010. Therefore, it is not expected that there will be any different economic impacts beyond status quo resulting from the proposed quota level. Leaving the ocean quahog quota at the harvest level of 5.333 million bu (284 million L) is not expected to constrain the fishery. In fact, actual ocean quahog landings for 2008 and 2009 were approximately 65 percent of the available quota. The total 2010 harvest is expected to be similar to recent years (as of September 30, 2010, only 47.6 percent of the quota had been harvested, a level slightly less than on this date in 2009). The surfclam quota is proposed to be set to the maximum allowed under the FMP.

In contrast to the ocean quahog harvest, the surfclam fishery has harvested over 80 percent of the available quota each year since 2005, except for 2009, where 69 percent of the quota was landed. As of September 30, 2010, only 47.7 percent of the quota has been harvested for FY 2010, a level slightly less than on this date in 2009.

The Maine ocean quahog quota is proposed to be set at the maximum allowed under the FMP (100,000 Maine bu; 35,240 hL). It is anticipated that by maintaining the status quo quota level for the next 3 years, the fishing industry will benefit from the stability of product demand from the seafood processors and being able to predict future fishery performance based on past performance from the last 3 years.

Economic Impacts of Alternatives to the Proposed Action

The Council analyzed four alternatives for the Atlantic surfclam fishery, five alternatives for the ocean quahog fishery, and four alternatives for the Maine ocean quahog fishery. Each of the alternative sets included the proposed alternative and a “no action” alternative. The selection of “no action” alternative would result in no quotas being established, a closure of the fishery, and is contrary to the FMP. Based on 2009 ex-vessel prices, the result of no Federal surfclam or ocean quahog harvests in 2011 would be a loss of $30 million to the Federal surfclam fishery, $23 million to the ocean quahog fishery, and $2 million to the Maine ocean quahog fishery, for a total loss of $55 million. The viable alternatives to the proposed quotas for ocean quahog that are permissible under the FMP and the Magnuson-Stevens Act include a 20-percent decrease from the status quo, a 6.2-percent decrease from the status quo, and a 20-percent increase from the status quo; therefore, there are no significant alternatives that would reduce economic impacts on the regulated entities.

The alternatives to the proposed surfclam quotas that are permissible under the FMP and the Magnuson-Stevens Act include a 45.6-percent decrease from the status quo and a 4.4-percent decrease from the status quo; therefore, there are no significant alternatives that would reduce economic impacts on the regulated entities.

The alternatives to the proposed Maine ocean quahog quota that are permissible under the FMP and the Magnuson-Stevens Act include a 50-percent decrease from the status quo and a 10-percent decrease from the status quo; therefore, there are no significant alternatives that would reduce economic impacts on the regulated entities.

Reporting and Recordkeeping Requirements

This proposed rule would not impose any new reporting, recordkeeping, or other compliance requirements. Therefore, the costs of compliance would remain unchanged.

Authority: 16 U.S.C. 1801 et seq.

Dated: October 20, 2010.
John Oliver,
Deputy Assistant Administrator for Operations, National Marine Fisheries Service.

[FR Doc. 2010-26940 Filed 10-22-10; 8:45 am]

BILLING CODE 3510-22-P